SECURITIES AND EXCHANGE COMMISSION

Sunshine Act Meeting

Notice is hereby given, pursuant to the provisions of the Government in the Sunshine Act, Public Law 94-409, that the Securities and Exchange Commission will hold a Roundtable on International Financial Reporting Standards on Monday, August 4, 2008 beginning at 1 p.m.

The Roundtable will take place in the Auditorium of the Commission's headquarters at 100 F Street, NE., Washington DC. The Roundtable will be open to the public with seating on a first-come, first-served basis. Doors will open at 12:30 p.m. Visitors will be subject to security checks.

The roundtable will consist of an open discussion on International Financial Reporting Standards (IFRS) and an update on IFRS developments, including the experience with use of IFRS during the recent period of market turmoil. The roundtable will be organized as two panels, each consisting of investors, issuers, auditors and other parties with experience in IFRS reporting.

For further information, please contact the Office of the Secretary at (202) 551-5400.

Dated: July 28, 2008.
Jill M. Peterson,
Assistant Secretary.

[FR Doc. E8-17600 Filed 7-30-08; 8:45 am]

BILLING CODE 8010-01-P